DEPARTMENT OF COMMERCE

International Trade Administration

[A-489-501]

Welded Carbon Steel Standard Pipe and Tube Products From Turkey: Final Results of Antidumping Duty Administrative Review; 2011-2012

AGENCY: Enforcement and Compliance, formerly Import Administration, International Trade Administration, Department of Commerce.

SUMMARY: On June 7, 2013, the Department of Commerce (the Department) published the preliminary results of the administrative review of the antidumping duty order on welded carbon steel standard pipe and tube products (welded pipe and tube) from Turkey.¹ The period of review (POR) is May 1, 2011, through April 30, 2012. Based on our analysis of the comments received, we have made certain changes in the margin calculations. Therefore, the final results differ from the preliminary results. The final weighted-average dumping margins for the reviewed firms are listed below in the section entitled “Final Results of the Review.” Further, we find that two companies had no shipments of subject merchandise during the POR.²

¹ See Welded Carbon Steel Standard Pipe and Tube Products from Turkey: Preliminary Results of Antidumping Duty Administrative Review; 2011-2012, 78 FR 34340 (June 7, 2013) (Preliminary Results).

² The Department initiated a review on the Borusan Group, Borusan Mannesmann Boru Sanayi ve Ticaret A.S., Borusan Istikbal Ticaret T.A.S., Borusan Holding A.S., and Borusan Lojistik Dagitim Depolama Tasimacilik ve Tic A.S. (collectively, Borusan ); ERBOSAN Erciyas Boru Sanayi ve Ticaret A.S. (Erbosan); Toscelik Profil ve Sac Endustrisi A.S., Toscelik Metal Ticaret A.S., and Tosyali Dis Ticaret A.S. (collectively, Toscelik); the Yucel Group, Cayirova Boru Sanayi ve Ticaret A.S., Yucel Boru ve Profil Endustrisi A.S., and Yucelboru Ihracat Ithalat ve Pazarlama A.S. (collectively, Yucel). As noted in the preliminary results, with respect to the Borusan entities, only Borusan Mannesmann Boru Sanayi ve Ticaret A.S. had reviewable sales during the POR. See Preliminary Results, 78 FR at 34340 n. 4. Furthermore, as we stated in the draft cash deposit instructions accompanying the preliminary results, several of the Borusan entities no longer exist. See draft cash deposit instructions in Attachment 2 of the memorandum entitled “Preliminary Results of the 2011-2012 Administrative Review of Welded Carbon Steel Standard Pipe and Tube Products from Turkey,” dated June 3, 2013. Erbosan also had reviewable sales. As noted below, we have determined that neither Toscelik nor Yucel had reviewable entries during the POR.

DATES: Effective Date: December 31, 2013.

FOR FURTHER INFORMATION CONTACT: Victoria Cho, Fred Baker, or Robert James, AD/CVD Operations, Office VI, Enforcement and Compliance, International Trade Administration, U.S. Department of Commerce, 14th Street and Constitution Avenue NW., Washington, DC 20230; telephone (202) 482-5075, (202) 482-2924, or (202) 482-0649, respectively.

Background

On June 7, 2013, the Department published the Preliminary Results, and invited interested parties to comment.³ On July 22, 2013, we received case briefs from domestic producers Wheatland Tube Company (Wheatland) and United States Steel Corporation (U.S. Steel), as well as from respondent Borusan. On August 1, 2013, we received rebuttal briefs from Borusan and Erbosan. On August 2, 2013, we received rebuttal briefs from Wheatland and U.S. Steel.

³ See Preliminary Results, 78 FR at 34341.

The Department has conducted this administrative review in accordance with section 751 of the Tariff Act of 1930, as amended (the Act).

Scope of the Order

The merchandise subject to the order is welded pipe and tube. The welded pipe and tube subject to the order is currently classifiable under subheading 7306.30.10.00, 7306.30.50.25, 7306.30.50.32, 7306.30.50.40, 7306.30.50.55, 7306.30.50.85, and 7306.30.50.90 of the Harmonized Tariff Schedule of the United States (HTSUS). The HTSUS subheadings are provided for convenience and customs purposes. A full written description of the scope of the Order is contained in the memorandum from Christian Marsh, Deputy Assistant Secretary for Antidumping and Countervailing Duty Operations, to Paul Piquado, Assistant Secretary for Enforcement and Compliance, “Issues and Decision Memorandum for Final Results of the Antidumping Duty Administrative Review: Welded Carbon Steel Standard Pipe and Tube Products from Turkey; 2011-2012” (Issues and Decision Memorandum), which is hereby adopted by this notice and incorporated herein by reference. The written description is dispositive.

Final Determination of No Shipments

As noted in the Preliminary Results, we received no-shipment claims from two companies under review—Yucel and Toscelik.⁴ These companies reported that they made no shipments of subject merchandise to the United States during the POR.⁵ U.S. Customs and Border Protection (CBP) confirmed that it did not identify evidence of shipments from either company. Following publication of the Preliminary Results, we received no comments from interested parties regarding these companies. As a consequence, and because the record contains no evidence to the contrary, we continue to find that neither company made any shipments during the POR. Accordingly, consistent with the Department's practice, we intend to instruct CBP to liquidate any existing entries of merchandise produced by Yucel or Toscelik, but exported by other parties, at the all-others rate.⁶

⁴ See Preliminary Results, 78 FR at 34340-41.

⁵ For a full explanation of the Department's analysis, see the Preliminary Results and accompanying Preliminary Decision Memorandum at 3.

⁶ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Analysis of Comments Received

All issues raised in the case briefs by parties are addressed in the Issues and Decision Memorandum. A list of the issues which parties raised and to which we respond in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov, and it is available to all parties in the Central Records Unit, room 7046 of the main Department of Commerce building. In addition, a complete version of the Issues and Decision Memorandum can be accessed directly at http://enforcement.trade.gov/frn/. The signed Issues and Decision Memorandum and the electronic version of the Issues and Decision Memorandum are identical in content.

Changes Since the Preliminary Results

Based on a review of the record and our analysis of the comments received from interested parties on the Preliminary Results, we made changes to the margin calculations for Borusan. Specifically, we have used costs for the six-month period immediately preceding the POR for the sales during the seven month sales reporting window prior to the POR; revised the calculation of home market direct selling expenses to include certain factoring costs in that adjustment; revised Borusan's duty drawback adjustment to exclude amounts related to scrap and second-quality pipe which were not re-exported; and removed Borusan's non-VAT home market sales from the calculations. For detailed information, see the Issues and Decision Memorandum.

Final Results of the Review

As a result of this review, we determine that the following weighted-average dumping margins exist for the period May 1, 2011, through April 30, 2012:

Manufacturer/exporter | Weighted-average dumping margin (percent)
Borusan Mannesmann Boru Sanayi ve Ticaret A.S. | 1.79
ERBOSAN Erciyas Boru Sanayi ve Ticaret A.S. | 0.0

Disclosure

We intend to disclose the calculations performed within five days of the date of publication of this notice to parties in this proceeding in accordance with 19 CFR 351.224(b).

Assessment Rates

The Department shall determine, and CBP shall assess, antidumping duties on all appropriate entries covered by this review pursuant to section 751(a)(2)(C) of the Act and 19 CFR 351.212(b). The Department intends to issue assessment instructions to CBP 15 days after the date of publication of these final results of review.

For Borusan, because its weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For Erbosan, we will instruct CBP to liquidate all entries during the POR without regard to antidumping duties because its weighted-average dumping margin in these final results is zero.⁷

⁷ See Antidumping Proceeding: Calculation of the Weighted-Average Dumping Margin and Assessment Rate in Certain Antidumping Duty Proceedings; Final Modification, 77 FR 8103 (February 14, 2012).

The Department clarified its “automatic assessment” regulation on May 6, 2003. See Antidumping and Countervailing Duty Proceedings: Assessment of Antidumping Duties, 68 FR 23954 (May 6, 2003) (Assessment Policy Notice). This clarification applies to entries of subject merchandise during the POR produced by companies included in these final results of review for which the reviewed companies did not know that the merchandise they sold to an intermediary (e.g., a reseller, trading company, or exporter) was destined for the United States. In such instances, we will instruct CBP to liquidate unreviewed entries at the all-others rate established in the less-than-fair-value (LTFV) investigation ⁸ if there is no rate for the intermediate company(ies) involved in the transaction. See Assessment Policy Notice for a full discussion of this clarification.

⁸ See Antidumping Duty Order; Welded Carbon Steel Standard Pipe and Tube Products From Turkey, 51 FR 17784, 17784 (May 15, 1986).

For Yucel and Toscelik, because the Department has determined that each of these respondents had no shipments during the POR for which they had knowledge, all entries entered under each of their cash deposit rates will be liquidated at the all-others rate established in the LTFV investigation.⁹

⁹ Id.

Cash Deposit Requirements

The following cash deposit requirements will be effective for all shipments of subject merchandise entered, or withdrawn from warehouse, for consumption on or after the publication date of the final results of this administrative review, as provided by section 751(a)(2)(C) of the Act: (1) The cash deposit rates for Borusan and Erbosan will be equal to the weighted-average dumping margins established in the final results of this review; (2) for previously reviewed or investigated companies not participating in this review, as well as for Yucel and Toscelik, the cash deposit rate will continue to be the company-specific rate established from a completed segment of this proceeding for the most recent period; (3) if the exporter is not a firm covered in this review, a previous review, or the original LTFV investigation, but the manufacturer is, the cash deposit rate will be the rate established from a completed segment of this proceeding for the most recent period for the manufacturer of the merchandise; and (4) the cash deposit rate for all other manufacturers or exporters will continue to be 14.74 percent, the all-others rate established in the LTFV investigation.¹⁰ These deposit requirements, when imposed, shall remain in effect until further notice.

¹⁰ Id.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

Notification to Interested Parties

In accordance with 19 CFR 351.305(a)(3), this notice serves as the only reminder to parties subject to administrative protective order (APO) of their responsibility concerning the disposition of proprietary information disclosed under APO. Timely written notification of return or destruction of APO materials, or conversion to judicial protective order, is hereby requested. Failure to comply with the regulations and the terms of an APO is a sanctionable violation.

These final results of review and notice are published in accordance with sections 751(a)(1) and 777(i)(1) of the Act.

Dated: December 23, 2013.
Paul Piquado,
Assistant Secretary for Enforcement and Compliance.

Appendix

List of Topics Discussed in the Issues and Decision Memorandum

Issues

Borusan

Comment 1: Significance of Cost Changes

Comment 2: Date of Sale for U.S. Sales

Comment 3: Home Market Direct Selling Expenses and Factoring Costs

Comment 4: Duty Drawback for U.S. Sales

Comment 5: Whether to Remove the Non-VAT Sales from the Home Market Sales Data Prior to Making Sales Comparisons

Comment 6: Withdraw of the Regulatory Provisions Governing Targeted Dumping in Less-Than-Fair-Value Investigations

Comment 7: Consideration of an Alternative Comparison Method in Administrative Reviews

Comment 8: The Average-to-Transaction Method and the Denial of Offsets for Non-Dumped Comparisons

Comment 9: Differential Pricing Issues

Erbosan

Comment 10: Differential Pricing Issues

[FR Doc. 2013-31344 Filed 12-30-13; 8:45 am]

BILLING CODE 3510-DS-P